DEPARTMENT OF COMMERCE

National Oceanic and Atmospheric Administration

RIN 0648-XD362

Atlantic Highly Migratory Species Management-Based Research Needs and Priorities Document

AGENCY: National Marine Fisheries Service (NMFS), National Oceanic and Atmospheric Administration (NOAA), Commerce.

ACTION: Notice of availability; request for comments.

SUMMARY: NMFS announces the availability of the Atlantic Highly Migratory Species (HMS) Management-Based Research Needs and Priorities document. The purpose of this document is to communicate key research needs that directly support Atlantic HMS management. Atlantic HMS are defined as bluefin, bigeye, albacore, yellowfin, and skipjack tunas, swordfish, billfish (blue marlin, white marlin, roundscale spearfish, longbill spearfish, and sailfish), and sharks.

DATES: Written comments must be received by August 11, 2014.

ADDRESSES: Electronic copies of the Atlantic HMS Management-Based Research Needs and Priorities document may also be obtained on the Internet at: http://www.nmfs.noaa.gov/sfa/hms/documents/hms_research_priorities_2014.pdf.

You may submit comments on this document, identified by NOAA-NMFS-2014-0080, by any of the following methods:

• Electronic Submission: Submit all electronic public comments via the Federal e-Rulemaking Portal. Go to www.regulations.gov/#!docketDetail;D=NOAA-NMFS-2014-0080, click the “Comment Now!” icon, complete the required fields, and enter or attach your comments.

• Mail: Submit written comments to Margo Schulze-Haugen, NMFS/SF1, 1315 East-West Highway, National Marine Fisheries Service, SSMC3, Silver Spring, MD 20910.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Steve Durkee by phone at (202) 670-6637.

SUPPLEMENTARY INFORMATION: The Atlantic HMS Management-Based Research Needs and Priorities document was developed by the Highly Migratory Species (HMS) Management Division of NMFS to communicate key research needs that directly support Atlantic HMS management. Atlantic HMS are defined as bluefin, bigeye, albacore, yellowfin, and skipjack tunas, swordfish, billfish (blue marlin, white marlin, roundscale spearfish, longbill spearfish, and sailfish), and sharks. The document contains a list of near and long-term research needs and priorities that can be used by individuals and groups interested in Atlantic HMS to identify key research needs, improve management, reduce duplication, prioritize limited funding, and form a potential basis for future funding. The priorities range from biological/ecological needs to socio-economic needs.

The document is one of several efforts to highlight key research needs for HMS. One early effort, the HMS Research Plan, was developed by NMFS scientists across HMS disciplines in response to discussions at HMS Advisory Panel (AP) meetings. The HMS AP was interested in identifying specific research needs based upon known data gaps, however, the HMS AP felt that early versions of the HMS Research Plan needed more specificity with clear prioritization. Further revisions to that document are underway. This document complements the HMS Research Plan currently in draft and, although of different purpose, some aspects of the HMS Research Plan were included in this document. Other efforts are also underway in the Agency to identify key research needs relevant to Atlantic HMS management, such as the National Recreational Action Agenda and Regional Plans and the National Bycatch Reduction Engineering Program.

While some of the priorities were derived from stock assessment reviews, other priorities were identified while developing and proposing management measures. Many of the research priorities address key data gaps and/or ways to reduce fishing mortality and/or bycatch to more effectively manage HMS fisheries, either directly or by improving stock assessments. Because these needs were identified by fishery managers, these research priorities may not correspond directly with the research priorities and needs identified by the scientists throughout NMFS.

Ongoing survey and monitoring programs are not discussed unless there is a specific suggestion for expansion of an existing program. These survey and monitoring programs, which include but are not limited to shark nursery and essential fish habitat studies, fishery-independent surveys, and observer programs, are vital to stock assessments and effective HMS management. These ongoing survey and monitoring programs should be considered high priority.

Authority: 16 U.S.C. 971 et seq., and 1801 et seq.

Dated: July 7, 2014.
Emily H. Menashes,
Acting Director, Office of Sustainable Fisheries, National Marine Fisheries Service.

[FR Doc. 2014-16168 Filed 7-9-14; 8:45 am]

BILLING CODE 3510-22-P